ENVIRONMENTAL PROTECTION AGENCY

40 CFR Part 257

[EPA-HQ-OLEM-2021-0051; FRL-12769-03-OLEM]

North Dakota: Approval of State Coal Combustion Residuals Permit Program; Reopening of Comment Period

AGENCY: Environmental Protection Agency (EPA).

ACTION: Notification of availability; reopening of comment period.

SUMMARY: The Environmental Protection Agency (EPA or the Agency) issued a Federal Register document on May 16, 2025, proposing to approve the North Dakota Coal Combustion Residuals (CCR) partial permit program under the Resource Conservation and Recovery Act (RCRA). EPA is reopening the comment period to propose its intention to approve additional revisions to the North Dakota CCR permit program which, if finalized, will provide North Dakota with additional authority to implement a State CCR permit program. The Agency is reopening the comment period to accept comments on the proposed revisions and EPA's evaluation of the changes.

DATES: The comment period for the notification of availability published on May 16, 2025 (90 FR 20985) closed July 15, 2025, and is reopened for an additional 15 days. Comments must be received on or before August 26, 2025.

ADDRESSES: Submit your comments, identified by Docket ID No. EPA-HQ-OLEM-2021-0051, online at https://www.regulations.gov. Follow the detailed online instructions provided under ADDRESSES in the Federal Register document published on May 16, 2025 (90 FR 20985). Do not submit electronically any information you consider to be Confidential Business Information (CBI) or other information whose disclosure is restricted by statute. Additional instruction on commenting and visiting the docket, along with more information about dockets generally, is available at https://www.epa.gov/dockets.

FOR FURTHER INFORMATION CONTACT: Michelle Lloyd, Office of Resource Conservation and Recovery, Materials Recovery and Waste Management Division, Environmental Protection Agency, 1200 Pennsylvania Avenue NW, MC: 5304T, Washington, DC 20460; telephone number: (202) 566-0560; email address: lloyd.michelle@epa.gov. For more information on this rulemaking please visit https://www.epa.gov/coalash.

SUPPLEMENTARY INFORMATION: EPA is reopening the comment period on the proposed approval, North Dakota: Approval of State Coal Combustion Residuals Permit Program (May 16, 2025, 90 FR 20985) to provide notice of and accept public comment on revisions to the State's CCR permit program that EPA intends to approve as part of North Dakota's partial CCR permit program because the Agency determined the revisions are at least as protective as the Federal CCR regulations. On June 26, 2025, the North Dakota Department of Environmental Quality (NDDEQ) informed EPA of rule changes to the North Dakota Administrative Code (NDAC) Chapters 33.1-20-01.1 (General Provisions), 33.1-20-02.1 (Applicability), and 33.1-20-08 (Disposal of Coal Combustion Residuals (CCR) in Landfills and Surface Impoundments) of the Solid Waste Management Rules that the State completed in 2024. The rule changes became effective on October 1, 2024. NDDEQ sent the updated rule changes and rulemaking information to the Agency on July 3, 2025. EPA placed the new relevant NDAC rule changes in the docket for this action. Additionally, EPA prepared an additional evaluation of North Dakota's CCR permit program submittal in light of these revisions to the State program. EPA's evaluation can be found in the docket in a document titled “Addendum to the Technical Support Document for the Approval of North Dakota's Coal Combustion Residuals Permit Program, dated July 2025.”

Many of the changes to the State's rules updated the rules to incorporate the two categories of provisions for which North Dakota did not seek approval of in its March 10, 2023, application. EPA included 24 items for which the state did not seek approval in the proposal (90 FR 20994, 20995, May 16, 2025). In addition to addressing the partial program elements, NDDEQ made conforming rule changes to grammar, formatting, and requiring documents to be submitted to the State in facility permit applications.

To submit comments or access the docket, please follow the detailed instructions provided under ADDRESSES in the Federal Register document published on May 16, 2025 (90 FR 20985). Comments previously submitted need not be resubmitted as they are already incorporated into the public record and will be considered in the final action as appropriate. If you have questions, consult the person listed under FOR FURTHER INFORMATION CONTACT.

Lee Zeldin,
Administrator.

[FR Doc. 2025-15183 Filed 8-8-25; 8:45 am]

BILLING CODE 6560-50-P